DEPARTMENT OF EDUCATION

[Docket No. ED-2016-ICCD-0069]

Agency Information Collection Activities; Submission to the Office of Management and Budget for Review and Approval; Comment Request; Native Hawaiian Career and Technical Education Grant Application (NHCTEP) (1894-0001)

AGENCY: Department of Education (ED), Office of Career, Technical, and Adult Education (OCTAE).

ACTION: Notice.

SUMMARY: In accordance with the Paperwork Reduction Act of 1995 (44 U.S.C. chapter 3501 et seq.), ED is proposing an extension of an existing information collection.

DATES: Interested persons are invited to submit comments on or before July 18, 2016.

ADDRESSES: To access and review all the documents related to the information collection listed in this notice, please use http://www.regulations.gov by searching the Docket ID number ED-2016-ICCD-0069. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-349, Washington, DC 20202-4537.

FOR FURTHER INFORMATION CONTACT: For specific questions related to collection activities, please contact Braden Goetz, 202-245-7405.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Native Hawaiian Career and Technical Education Grant Application (NHCTEP) (1894-0001).

OMB Control Number: 1830-0564.

Type of Review: An extension of an existing information collection.

Respondents/Affected Public: Private Sector.

Total Estimated Number of Annual Responses: 10.

Total Estimated Number of Annual Burden Hours: 1,200.

Abstract: This is a request for extension of the approval of the information collection which solicits applications for the Native Hawaiian Career and Technical Education Program (NHCTEP). NHCTEP, authorized by section 116 (h) of the Carl D. Perkins Career and Technical Education Act of 2006 (Pub. L. 109-270) (20 U.S.C.2301, provides grants to community-based organizations primarily serving and representing Native Hawaiians. Grant funds are used for expenses associated with developing challenging academic and technical standards, especially in preparation for high-skill, high-wage, or high-demand occupations in established or emerging professions; and providing technical assistance and professional development that improves the quality of career and technical education teachers, faculty, administrators, and counselors. Students are provided stipends, tuition, books, fees, childcare, counseling, job placement, transportation, supplies, specialized tools and uniforms that are necessary to fully and effectively participate in career and technical education programs. Programs are designed to provide one year certificate or two year degrees.

Dated: June 14, 2016.
Tomakie Washington,
Acting Director, Information Collection Clearance Division, Office of the Chief Privacy Officer, Office of Management.

[FR Doc. 2016-14386 Filed 6-16-16; 8:45 am]

BILLING CODE 4000-01-P